DEPARTMENT OF AGRICULTURE

Natural Resources Conservation Service

Request for Nominations to the Task Force on Agricultural Air Quality Research

AGENCY: Natural Resources Conservation Service, USDA.

ACTION: Notice of request for nominations to the Task Force on Agricultural Air Quality Research.

SUMMARY: The Secretary of Agriculture invites nominations of qualified candidates to be considered for a 2-year term on the Task Force on Agricultural Air Quality Research, typically referred to as the Agricultural Air Quality Task Force (AAQTF) established by the Federal Agriculture Improvement and Reform Act of 1996 to provide recommendations to the Secretary of Agriculture on agricultural air quality issues. This notice solicits nominations for membership on AAQTF.

DATES:

Applicable: September 8, 2020.

Nominations due: We will consider nominations that are postmarked by November 9, 2020.

ADDRESSES: Submit nominations to Greg Zwicke, Designated Federal Officer, Department of Agriculture, Natural Resources Conservation Service, West National Technology Support Center, 2150 Centre Avenue, Building A, Suite 314B, Fort Collins, CO 80526; or sent by email to: Greg.Zwicke@usda.gov.

FOR FURTHER INFORMATION CONTACT: Greg Zwicke; telephone: (970) 295-5621; email: Greg.Zwicke@usda.gov.

SUPPLEMENTARY INFORMATION:

AAQTF Purpose

Section 391 of the Federal Agriculture Improvement and Reform Act of 1996 (Pub. L. 104-127, 7 U.S.C. 5405) requires the Chief of the Natural Resources Conservation Service (NRCS) to establish a task force to address air agricultural quality issues. AAQTF first met in 1996 and was active through 2016. AAQTF advises the Secretary of Agriculture on the role of the Secretary for providing oversight and coordination related to agricultural air quality.

The requirements of the Federal Advisory Committee Act, 5 U.S.C. App. 2, apply to AAQTF.

AAQTF will:

1. Strengthen vital research efforts related to agricultural air quality;

2. Determine the extent to which agricultural activities contribute to air pollution;

3. Determine cost-effective ways in which the agricultural industry can improve air quality;

4. Coordinate and ensure intergovernmental cooperation on research activities related to agricultural air quality issues to avoid duplication, and ensure data quality and sound interpretation of data; and

5. Advise the Secretary of Agriculture so the Secretary has the information to provide oversight and coordination about agricultural air quality.

AAQTF Membership

AAQTF expects to meet two to three times each year, with meetings held at various locations across the United States. Each AAQTF member will serve for a term of 2 years, starting with the date of appointment to AAQTF. The Chief of NRCS serves as Chair of AAQTF. AAQTF is composed of U.S. citizens representing a broad spectrum of individuals with interest and expertise in agricultural air quality issues. This includes, but is not limited to, representatives from the agricultural production and processing sector, as well as those from academia, agribusiness, regulatory organizations, environmental organizations, and local or State agencies.

Nominees to AAQTF will be evaluated on a number of criteria, including expertise in or experience with agricultural air quality research, agricultural production, and air quality environmental or regulatory issues.

Serving as an AAQTF member will not constitute employment by, or the holding of an office of the United States for the purpose of any Federal law. Persons selected for membership on AAQTF will not receive compensation from NRCS for their service as Task Force members. Members will be eligible for travel expenses paid by NRCS while away from home or regular place of business, including per diem in lieu of subsistence, which will be at the same rate as a person employed intermittently in the government service, under 5 U.S.C. 5703.

Additional information about the AAQTF may be found at: http://www.airquality.nrcs.usda.gov/wps/portal/nrcs/detail/national/air/taskforce/.

Member Nominations

Any interested person or organization may nominate qualified individuals for AAQTF membership. Interested candidates may nominate themselves. Previous nominees and AAQTF members who wish to be considered for membership on AAQTF must submit a new nomination with updated information, including a new background disclosure form (Form AD-755).

Nominations should be typed and include the following:

1. A brief summary, no more than two pages, explaining the nominee's qualifications to serve on AAQTF and addressing the criteria described above.

2. A resume providing the nominee's background, experience, and educational qualifications.

3. A completed background disclosure form (Form AD-755) signed by the nominee. The form is available on-line at: https://www.ocio.usda.gov/sites/default/files/docs/2012/AD-755-Approved_Master-exp-3.31.22_508.pdf.

4. Any recent publications by the nominee relative to air quality (if appropriate).

5. Letter(s) of endorsement (optional).

Send nominations to Greg Zwicke, Designated Federal Officer, Department of Agriculture, Natural Resources Conservation Service, West National Technology Support Center, 2150 Centre Avenue, Building A, Suite 314B, Fort Collins, CO 80526; or email to: Greg.Zwicke@usda.gov. The Designated Federal Officer will acknowledge receipt of nominations.

Equal opportunity practices, in line with the U.S. Department of Agriculture (USDA) policies, will be followed in all appointments to AAQTF. To ensure that the recommendations of AAQTF have taken into account the needs of the diverse groups served by USDA, membership should include, to the extent practicable, individuals with demonstrated ability to represent minorities, women, and persons with disabilities.

Equal Opportunity Statement

USDA prohibits discrimination in all programs and activities on the basis of race, sex, color, national origin, gender, religion, age, sexual orientation, or disability. Additionally, discrimination on the basis of political beliefs and marital status or family status is also prohibited by statutes enforced by USDA (not all prohibited bases apply to all programs). Persons with disabilities who require alternate means for communication of program information should contact USDA's Technology and Accessible Resources Give Employment Today Center at (202) 720-2600. USDA is an equal opportunity provider and employer.

Dated: August 31, 2020.
Cikena Reid,
USDA Committee Management Officer.

[FR Doc. 2020-19783 Filed 9-4-20; 8:45 am]

BILLING CODE 3410-16-P